Proclamation 9898 of May 31, 2019

Great Outdoors Month, 2019

By the President of the United States of America

A Proclamation

Each year, millions of Americans step into our Nation's vast and wondrous outdoors. There, they experience the miracles of creation: expansive forests, towering mountains, winding canyons, pristine waters, imposing glaciers, and soaring landscapes. These natural marvels offer limitless opportunity to experience nature and to consider the profound. During Great Outdoors Month, we celebrate the majesty of our planet and the freedom we have to witness its awe-inspiring grandeur.

In America, adventurers of all stripes have a place to experience, to explore, and to make lifelong memories. The National Parks System alone encompasses more than 400 different natural, cultural, and historic sites throughout the country. Thousands more State parks and trails ornament our country's varied landscapes. Even our cityscapes are filled with parks, marinas, swimming pools, golf courses, tennis courts, and other recreational opportunities. No matter the location, citizens in every part of our Nation can find their own outdoor adventure and, in doing so, improve their health, deepen connections with their families and communities, and experience their country in new and exciting ways.

A proud tradition of protecting and maintaining our outdoor places is woven into our Nation's heritage. Expanding access to these many locations is a priority of my Administration. We have opened hundreds of thousands of acres of previously unavailable or restricted public lands and added hundreds of miles to the national recreation trails system. I also recently signed into law the John D. Dingell, Jr. Conservation, Management, and Recreation Act, which designates new acreage as wilderness areas, increases access to public lands for hunting and fishing, and expands areas for recreational camping and boating. We will continue to leverage public- and private-sector resources to preserve our cultural history and natural habitat for future generations.

This month in particular, we recognize all those who help to conserve our natural environment, and we renew our commitment to act as responsible stewards of its many gifts. I encourage all Americans to get outdoors this summer to encounter, appreciate, and enjoy the natural splendor of our beautiful country.

NOW, THEREFORE, I, DONALD J. TRUMP, President of the United States of America, by virtue of the authority vested in me by the Constitution and the laws of the United States, do hereby proclaim June 2019 as Great Outdoors Month. I urge all Americans to explore the great outdoors while acting as stewards of our lands and waters.

IN WITNESS WHEREOF, I have hereunto set my hand this thirty-first day of May, in the year of our Lord two thousand nineteen, and of the Independence of the United States the two hundred and forty-third.

[FR Doc. 2019-11977

Filed 6-4-19; 11:15 am]

Billing code 3295-F9-P